NATIONAL CRIME PREVENTION AND PRIVACY COMPACT COUNCIL

Fingerprint Submission Requirements

AGENCY: National Crime Prevention and Privacy Compact Council.

ACTION: Notice of approval of a U.S. Department of the Interior, Bureau of Indian Affairs proposal requesting access to the Interstate Identification Index with delayed fingerprint submission.

Authority: 42 U.S.C. 14616.

SUMMARY: The National Crime Prevention and Privacy Compact Council (Compact Council) approves a Bureau of Indian Affairs (BIA) proposal requesting access to the Interstate Identification Index (III) System on a delayed fingerprint submission basis.

FOR FURTHER INFORMATION CONTACT: Gary S. Barron, FBI CJIS Division, 1000 Custer Hollow Road, Module D3, Clarksburg, WV 26306; Telephone (304) 625-2803; email gary.barron@ic.fbi.gov; Fax number (304) 625-2868.

SUPPLEMENTARY INFORMATION: Title 28, Code of Federal Regulations (CFR), part 901, specifically § 901.3, gives authority to the Compact Council, established by the National Crime Prevention and Privacy Compact Act of 1998 (Compact), to approve proposals for delayed submission of fingerprints supporting requests for III records. The proposals must fully describe the emergency nature of the situation, the risk to the health and safety of those involved, and the reasons why contemporaneous fingerprint submission with the search request is not feasible. The BIA proposal makes such an request when conducting criminal history record checks on behalf of federally-recognized tribes, in connection with the placement of children with temporary custodians on an emergency basis. (See BIA's proposal, attached.) Federally-recognized tribes that receive funds under the Indian Self-Determination and Education Assistance Act (25, United States Code [U.S.C.], 450, et. seq) or the Tribally Controlled Schools Act (25 U.S.C. 2501, et. seq) are authorized access to criminal history record information pursuant to Public Law 101-630 (25 U.S.C. 3205 and 3207).

The BIA's proposal was submitted by letter dated February 11, 2015, and approved by the Compact Council on May 13, 2015, pursuant to 28 CFR 901.2 and 901.3. Access to the III System to conduct name-based criminal history record checks, followed by fingerprint submissions, provides a responsive and timely avenue to determine whether an applicant presents a risk to children during exigent circumstances when time is of the essence. Such name-based checks will be followed by submission of the applicant's fingerprints to the FBI within 15 calendar days.

Dated: December 10, 2015.
Dawn A. Peck,
Compact Council Chairman.

BILLING CODE 4410-02-P

[FR Doc. 2015-32460 Filed 1-22-16; 8:45 am]

BILLING CODE 4410-02-C